DEPARTMENT OF COMMERCE

International Trade Administration

Export Trade Certificate of Review

ACTION: Notice of application.

SUMMARY: Export Trading Company Affairs, International Trade Administration, Department of Commerce, has received an application for an Export Trade Certificate of Review. This notice summarizes the conduct for which certification is sought and requests comments relevant to whether the Certificate should be issued.

FOR FURTHER INFORMATION CONTACT: Jeffrey Anspacher, Director, Export Trading Company Affairs, International Trade Administration, by telephone at (202) 482-5131 (this is not a toll-free number) or E-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether a Certificate should be issued. If the comments include any privileged or confidential business information, it must be marked clearly and a nonconfidential version of the comments (identified as such) should be included. Any comments not marked privileged or confidential business information will be deemed to be nonconfidential. An original and five (5) copies, plus two (2) copies of the nonconfidential version, should be submitted no later than 20 days after the date of this notice to: Export Trading Company Affairs, International Trade Administration, U.S. Department of Commerce, Room 1104H, Washington, DC 20230. Information submitted by any person is exempt from disclosure under the Freedom of Information Act (5 U.S.C. 552). However, nonconfidential versions of the comments will be made available to the applicant if necessary for determining whether or not to issue the Certificate. Comments should refer to this application as “Export Trade Certificate of Review, application number 04-00003.” A summary of the application follows.

Summary of the Application

Applicant: Rocky Mountain Instrument Company, 106 Laser Drive, Lafayette, Colorado 80026.

Contact: Don Arseneault, Quality System Manager, Telephone: (303) 604-4846.

Application No.: 04-00003.

Date Deemed Submitted: October 5, 2004.

Members (in addition to Applicant): None.

The Rocky Mountain Instrument Company seeks an Export Trade Certificate of Review to engage in the Export Trade Activities and Methods of Operation described below for the following Products and Export Markets:

Products

Rocky Mountain Instrument Company is a manufacturer of full spectrum, ultraviolet through far infrared, laser and imaging optical components, assemblies and electro-optical systems. Products to be covered by the proposed Certificate include optical components ranging from .19-20μm applications; prism components and assemblies; optical coating for Ultra Violet, Visible, Near Infra Red, and Infra Red applications; optical mount assemblies; Vanadate Laser Marking Systems; and related research and development services, custom design, or build to print services.

Export Markets

The Export Markets include all parts of the world except the United States (the fifty states of the United States, the District of Columbia, the Commonwealth of Puerto Rico, the Virgin Islands, American Samoa, Guam, the Commonwealth of the Northern Mariana Islands, and the Trust Territory of the Pacific Islands).

Export Trade Activities and Methods of Operation

With respect to the sale of Products in the Export Markets, the Rocky Mountain Instrument Company may, on its own behalf:

1. Set up exclusive dealings for distributors and or end customers.

2. Allocate specific territories for such distributors and or end customers.

3. Allocate specific pricing guidelines for such distributors and or end customers.

Dated: October 13, 2004.
Jeffrey Anspacher,
Director, Export Trading Company Affairs.

[FR Doc. E4-2724 Filed 10-19-04; 8:45 am]

BILLING CODE 3510-DR-P